OFFICE OF SPECIAL COUNSEL

Agency Information Collection Activities; Request for Comment

AGENCY: Office of Special Counsel.

ACTION: First Notice.

SUMMARY: In accordance with the Paperwork Reduction Act of 1995 (44 U.S.C. Chapter 35), and implementing regulations at 5 CFR part 1320, the U.S. Office of Special Counsel (OSC), plans to request approval from the Office of Management and Budget (OMB) for use of four previously approved information collections consisting of complaint forms. These collections are listed below. The current OMB approval for Forms OSC-11, OSC-12, OSC-13, OSC-14 and the OSC Survey expire 9/30/08. We are submitting all four forms and the electronic survey for renewal, based on the upcoming date of expiration. Two of the four forms are being revised, Forms OSC-11 and OSC-12. Form OSC-11 has had major changes made to its electronic version, so that it has a certain amount of “intelligence” now built in. Depending upon your responses, it navigates you to the proper sections; it also has help menus for those who need more information prior to making their selections. The electronic form OSC-12 had minor modifications made to it, in order to allow it to be integrated into the new software used to support form OSC-11.

Current and former Federal employees, employee representatives, other Federal agencies, state and local government employees, and the general public are invited to comment on this information collection for the first time. Comments are invited on: (a) whether the proposed collection of information is necessary for the proper performance of OSC functions, including whether the information will have practical utility; (b) the accuracy of OSC's estimate of the burden of the proposed collections of information; (c) ways to enhance the quality, utility, and clarity of the information to be collected; and (d) ways to minimize the burden of the collection of information on respondents, including through the use of automated collection techniques or other forms of information technology.

DATES: Comments should be received by May 16, 2008.

ADDRESSES: Roderick Anderson, Director of Management and Budget, U.S. Office of Special Counsel, 1730 M Street, NW., Suite 218, Washington, DC 20036-4505.

FOR FURTHER INFORMATION CONTACT: Roderick Anderson, Director of Planning and Analysis at the address shown above; by facsimile at (202) 254-3715. The paper versions of the complaint forms for the collection of information are available for review on OSC's Web site, at http://www.osc.gov/forms.htm. The screen captures of the electronic forms are available for review on OSC's web site at http://www.osc.gov/library.htm. For those wishing to test out the new functionality of the “interactive” form OSC-11, it will be available to you during the second, 30 day notice, where you will be able to create a user name and password, and log in to test out the form.

SUPPLEMENTARY INFORMATION: OSC is an independent agency responsible for, among other things, (1) investigation of allegations of prohibited personnel practices defined by law at 5 U.S.C. 2302(b), protection of whistleblowers, and certain other illegal employment practices under titles 5 and 38 of the U.S. Code, affecting current or former Federal employees or applicants for employment, and covered state and local government employees; and (2) the interpretation and enforcement of Hatch Act provisions on political activity in chapters 15 and 73 of title 5 of the U.S. Code.

Title of Collections: (1) Form OSC-11, (Complaint of Possible Prohibited Personnel Practice of Other Prohibited Activity; (2) Form OSC-12 (Information about filing a Whistleblower Disclosure with the Office of Special Counsel); (3) Form OSC-13 (Complaint of Possible Prohibited Political Activity (Violation of the Hatch Act)); (4) Form OSC-14 Complaint of Possible Violation of the Uniformed Services Employment and Reemployment Rights Act (USERRA).

Type of Information Collection

Request: Approval of a previously approved collection of information, of which the forms and survey expire on 9/30/08. Also request that the revised electronic versions of forms OSC-11 and OSC-12 be approved.

Affected public: Current and former Federal employees, applicants for Federal employment, state and local government employees, and their representatives, and the general public.

Respondent's Obligation: Voluntary.

Estimated Annual Number of Respondents: 2,700.

Frequency: Daily.

Estimated Average Amount of Time for a Person to Respond: 64 minutes.

Estimated Annual Burden: 2,899 hours.

Abstract: This form is used by current and former Federal employees and applicants for Federal employment to submit allegations of possible prohibited personnel practices or other prohibited activity for investigation and possible prosecution by OSC.

Dated: March 31, 2008.
Scott J. Bloch,
Special Counsel.

[FR Doc.E8-7030 Filed 4-3-08; 8:45 am]

BILLING CODE 7405-01-S